FEDERAL COMMUNICATIONS COMMISSION

47 CFR Part 73

[DA 04-2860; MB Docket No. 03-247, RM-10831]

Radio Broadcasting Services; Bald Knob and Greenbrier, AK

AGENCY: Federal Communications Commission.

ACTION: Final rule.

SUMMARY: The Audio Division, at the request of Crain Media Group, LLC, licensee of FM Station KKSY, Bald Knob, Arkansas, deletes Bald Knob, Arkansas, from the FM Table of Allotments, and allots Channel 296C3 at Greenbrier, Arkansas, as the community's first local FM service, and modifies the license of FM Station KKSY to specify operation on Channel 296C3 at Greenbrier. Channel 296C3 can be allotted to Greenbrier, Arkansas, in compliance with the Commission's minimum distance separation requirements with a site restriction of 8.8 km (5.5 miles) northeast of Greenbrier. The coordinates for Channel 296C3 at Greenbrier, Arkansas, are 35-17-28 North Latitude and 92-19-14 West Longitude.

DATES: Effective October 25, 2004.

FOR FURTHER INFORMATION CONTACT: Deborah Dupont, Media Bureau, (202) 418-2180.

SUPPLEMENTARY INFORMATION: This is a synopsis of the Commission's Report and Order, MB Docket No. 03-247, adopted September 1, 2004, and released September 3, 2004. The full text of this Commission decision is available for inspection and copying during normal business hours in the FCC Information Center, Portals II, 445 12th Street, SW, Room CY-A257, Washington, DC 20554. The complete text of this decision also may be purchased from the Commission's duplicating contractor, Best Copy and Printing, Inc., 445 12th Street, SW, Room CY-B402, Washington, DC, 20554, (800) 378-3160, or via the company's Web site, http://www.bcpiweb.com. The Commission will send a copy of this Report and Order in a report to be sent to Congress and the General Accounting Office pursuant to the Congressional Review Act, see U.S.C. 801(a)(1)(A).

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Arkansas, is amended by removing Bald Knob, Channel 296C3 and by adding Greenbrier, Channel 296C3.

Federal Communications Commission.
John A. Karousos,
Assistant Chief, Audio Division, Media Bureau.

[FR Doc. 04-20902 Filed 9-15-04; 8:45 am]

BILLING CODE 6712-01-P